DEPARTMENT OF HOMELAND SECURITY

Coast Guard

33 CFR Part 100

[Docket No. USCG-2012-0459]

RIN 1625-AA00

Special Local Regulation; San Francisco Bay Navy Fleetweek Parade of Ships and Blue Angels Demonstration

AGENCY: Coast Guard, DHS.

ACTION: Interim rule and request for comments.

SUMMARY: The Coast Guard is amending the special local regulation for the San Francisco Bay Navy Fleetweek Parade of Ships and Blue Angels Demonstration. The amendment will increase the restricted area surrounding U.S. Navy parade vessels operating in regulated area “Alpha” from 200 yards to 500 yards. When the special local regulation is activated and subject to enforcement, this rule would limit the movement of vessels within 500 yards of any Navy parade vessel.

DATES: This rule is effective August 23, 2012. Comments and related material must be received by the Coast Guard on or before August 23, 2012.

Requests for public meetings must be received by the Coast Guard on or before August 13, 2012.

ADDRESSES: Documents mentioned in this preamble are part of Docket Number USCG-2012-0459. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

You may submit comments identified by docket number USCG-2012-0459 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Lieutenant DeCarol Davis, U.S. Coast Guard Sector San Francisco, Waterways Management Division; telephone 415-399-7443, email DeCarol.A.Davis@uscg.mil. If you have questions on viewing or submitting material to the docket, call Renee V. Wright, Program Manager, Docket Operations, telephone (202) 366-9826.

SUPPLEMENTARY INFORMATION:

Table of Acronyms

DHS Department of Homeland Security

FR Federal Register

NPRM Notice of Proposed Rulemaking

SLR Special Local Regulation

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number (USCG-2012-0459) in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2012-0459) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Regulatory History and Information

The special local regulation for the San Francisco Bay Navy Fleetweek Parade of Ships and Blue Angels Demonstration (“SLR”) is established in 33 CFR 100.1105. This rule amends section (1), paragraph (c) of 33 CFR 100.1105 to expand the restricted area surrounding Navy parade vessels operating in the regulated area from 200 yards to 500 yards. The reason for this amendment is that we wish to align the SLR with the most up-to-date Coast Guard security enforcement procedures and incorporate language that adds to the transparency of the regulation for the public, enabling potential spectators of the San Francisco Fleetweek events to better understand, and prepare for, the Coast Guard's forthcoming enforcement actions.

The most recent Coast Guard security procedures, which generally call for a 500-yard restricted area around patrolled vessels, are still being evaluated to determine whether 500 yards can be effectively enforced given the level of on-water activity experienced during the San Francisco Bay Fleetweek events. During Fleetweek, there are substantially more recreational users on the water as spectators, and this crowding may ultimately require the Coast Guard to enforce a perimeter that is larger or smaller than the 500 yards prescribed in this rule. This amendment is being promulgated as an interim rule to implement immediate security measures needed for safety during Fleetweek events and to allow for subsequent changes to the rule should the restricted area surrounding parade vessels need to increase or decrease.

The Coast Guard is issuing this interim rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(1)(B), we find that good cause exists for not publishing a notice of proposed rulemaking (NPRM) with respect to this rule because publishing an NPRM would be unnecessary.

The existing SLR, which this rule intends to amend, presently authorizes the Coast Guard to forbid and control the movement of vessels in the regulated areas defined in 33 CFR 100.1105(b). Although this rule amends the SLR to expand the restricted area surrounding the Navy parade vessel, this expansion remains within the previously defined regulated area in which the Coast Guard already has the authority to control vessel movement. This interim rule does not expand or contract the authorities promulgated in the existing SLR. The rule merely amends the current SLR language to reflect the most up-to-date Coast Guard enforcement procedures and provide the public notice of the enforcement actions that will be implemented within the existing regulated area. As this amendment provides the public with notice of the Coast Guard's enforcement strategies and does not change the scope of the SLR, we find it unnecessary to publish an NPRM.

C. Basis and Purpose

The San Francisco Bay Navy Fleetweek Parade of Ships and Blue Angels Demonstration occurs annually in early October on the navigable waters of San Francisco Bay in California. The SLR for these events does not currently contain language that mirrors the current Coast Guard security zone enforcement procedures. Coast Guard security zone enforcement actions require that there be an adequate space cushion surrounding U.S. naval vessels, so that Coast Guard enforcement assets may respond to security threats at an appropriate distance from U.S. naval vessels to prevent injury, loss of life or property damage. This amendment is necessary to reflect the enforcement actions needed to provide for the safety and security of the participating U.S. Navy parade vessels, spectators, event participants, and other waterways users from sabotage, subversive acts, accidents, criminal actions, or other causes of a similar nature.

The effect of this amendment will be to communicate to the public the Coast Guard's intention to further restrict general navigation in the vicinity of the Navy Fleetweek Parade of Ships, within the existing regulated area, from the start of the event until the conclusion of the event. When the special local regulation is activated, and thus subject to enforcement, this rule would limit the movement of vessels within 500 yards of any Navy parade vessel.

D. Discussion of the Interim Rule

The Coast Guard is amending paragraph (c)(1) of 33 CFR 100.1105, the special local regulation for the San Francisco Bay Navy Fleetweek Parade of Ships and Blue Angels Demonstration. The amendment will increase the restricted area surrounding U.S. Navy parade vessels operating in regulated area “Alpha,” which is defined in 33 CFR 100.1105(b)(1), from 200 yards to 500 yards.

Experiences during security zone enforcement operations, observations during boat tactics training, and discussions with Commanding Officers/Officers in Charge and tactical coxswains from Sector San Francisco's boat stations, has led the Coast Guard to determine that a 200-yard (183 meters) security zone is not adequate for protecting transiting vessels from sabotage, subversive acts, accidents, criminal actions, or other causes of a similar nature. A 500 yard (457 meters) security zone increases reaction time, allows proper assessment of the situation, and improves the ability of the tactical coxswains to properly execute protective measures.

The amendment will prohibit persons or vessels from entering or remaining within 500 yards of any Navy parade vessel.

E. Regulatory Analyses

We developed this rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This interim rule does not expand or contract the authorities promulgated in the existing SLR established in 33 CFR 100.1105. The rule merely amends the current SLR language to reflect the most up-to-date Coast Guard enforcement procedures and provide the public notice of the enforcement actions that will be implemented within the existing regulated area.

2. Impact on Small Entities

Under the Regulatory Flexibility Act (5 U.S.C. 601-612), we have considered the impact of this rule on small entities. The Coast Guard certifies under 5 U.S.C. 605(b) that this rule will not have a significant economic impact on a substantial number of small entities. We expect this rule will affect the following entities, some of which may be small entities: owners and operators of vessels intending to fish, sightsee, transit, or anchor in the waters affected by the regulated areas. These regulations will not have a significant economic impact on a substantial number of small entities for several reasons: small vessel traffic will be able to pass safely around the area and vessels engaged in event activities, sightseeing and commercial fishing have ample space outside of the area governed by the special local regulations to engage in these activities. Small entities and the maritime public will be advised of implementation of the special local regulation via public notice to mariners or notice of implementation published in the Federal Register.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above. The Coast Guard will not retaliate against small entities that question or complain about this rule or any policy or action of the Coast Guard.

4. Collection of Information

This rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

8. Taking of Private Property

This rule would not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule will increase the restricted area surrounding U.S. Navy parade vessels operating in regulated area “Alpha,” which is defined in 33 CFR 100.1105(b)(1), from 200 yards to 500 yards. This rule is categorically excluded from further review under paragraph 34(a) of Figure 2-1 of the Commandant Instruction. An environmental analysis checklist supporting this determination and a Categorical Exclusion Determination are available in the docket where indicated under ADDRESSES. We seek any comments or information that may lead to the discovery of a significant environmental impact from this rule.

List of Subjects in 33 CFR Part 100

Marine safety, Navigation (water), Reporting and recordkeeping requirements, and Waterways.

For the reasons discussed in the preamble, the Coast Guard amends 33 CFR part 100 as follows:

PART 100—REGATTAS AND MARINE PARADES

1. The authority citation for part 100 continues to read as follows: 33 U.S.C. 1233.

2. In § 100.1105 revise paragraph (c)(1) to read as follows:

§ 100.1105 San Francisco Bay Navy Fleetweek Parade of Ships and Blue Angels Demonstration.

* * * * *

(c) * * *

(1) Except for persons or vessels authorized by the Coast Guard Patrol Commander, in regulated area “Alpha” no person may enter or remain within 500 yards of any Navy parade vessel. No person or vessel shall anchor, block, loiter in, or impede the through transit of ship parade participants or official patrol vessels in regulated area “Alpha.”

* * * * *

Dated: July 12, 2012.
Cynthia L. Stowe,
Captain, U.S. Coast Guard, Captain of the Port San Francisco.

[FR Doc. 2012-17946 Filed 7-23-12; 8:45 am]

BILLING CODE 9110-04-P